DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with November anniversary dates. In accordance with the Department's regulations, we are initiating those administrative reviews. The Department also received a request to revoke one antidumping duty order in part.

DATES: Effective Date: December 28, 2010.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with November anniversary dates. The Department also received a timely request to revoke in part the antidumping duty order on Fresh Garlic from the People's Republic of China with respect to one exporter.

All deadlines for the submission of various types of information, certifications, or comments or actions by the Department discussed below refer to the number of calendar days from the applicable starting date.

Notice of No Sales

Under 19 CFR 351.213(d)(3), the Department may rescind a review where there are no exports, sales, or entries of subject merchandise during the respective period of review (“POR”) listed below. If a producer or exporter named in this notice of initiation had no exports, sales, or entries during the POR, it must notify the Department within 60 days of publication of this notice in the Federal Register. The Department will consider rescinding the review only if the producer or exporter, as appropriate, submits a properly filed and timely statement certifying that it had no exports, sales, or entries of subject merchandise during the period of review. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the period of review (“POR”). We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2,1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register. In responding to the certification, please follow the “Instructions for Filing the Certification” in the Separate Rate Certification. Separate Rate Certifications are due to the Department no later than 60 days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceedings (e.g., an ongoing administrative review, new shipper review, etc.) and entities that lost their separate rate in the most recently complete segment of the proceeding in which they participated.

² Only changes to the official company name, rather than trade names, need to be addressed via a Separate Rate Application. Information regarding new trade names may be submitted via a Separate Rate Application.

For exporters and producers who submit a separate-rate status application or certification and subsequently are selected as mandatory respondents, these exporters and producers will no longer be eligible for separate-rate status unless they respond to all parts of the questionnaire as mandatory respondents.

Initiation of Reviews: In accordance with 19 CFR 351.221(c)(1)(i), we are initiating administrative reviews of the following antidumping and countervailing duty orders and findings. We intend to issue the final results of these reviews not later than November 30, 2011.

| Period to be reviewed
Antidumping duty proceedings
BRAZIL: Polyethylene Terephthalate (Pet) Film A-351-841 | 11/1/09-10/31/10
Terphane Inc
GERMANY: Lightweight Thermal Paper A-428-840 | 11/1/09-10/31/10
Papierfabrik August Koehler AG
Mitsubishi HiTec Paper Flensburg GmbH, Mitsubishi HiTec Paper Bielefeld GmbH, and Mitsubishi International Corp.
MEXICO: Certain Circular Welded Non-Alloy Steel Pipe A-201-805 | 11/1/09-10/31/10
Mueller Comercial de Mexico, S. de R.L. de C.V.
Southland Pipe Nipples Co., Inc
Lamina y Placa Comercial, S.A. de C.V.
Tuberia Nacional, S.A. de C.V.
SOUTH KOREA: Certain Circular Welded Non-Alloy Steel Pipe A-580-809 | 11/1/09-10/31/10
SeAH Steel Corporation
Hyundai HYSCO
Husteel Co., Ltd
Nexteel Co., Ltd
Dongbu Steel Co., Ltd
Kumkang Industrial Co., Ltd
A-JU Besteel Co., Ltd
SOUTH KOREA: Diamond Sawblades and Parts Thereof A-580-855 | 1/23/09-10/31/10
Ehwa Diamond Industrial Co., Ltd
Hyosung D&P Co., Ltd
Hyosung Diamond Industrial Co., Ltd
SH Trading Inc
Shinhan Diamond Industrial Co., Ltd
Western DiamonTools Inc
TAIWAN: Certain Circular Welded Non-Alloy Steel Pipe A-583-814 | 11/1/09-10/31/10
Far East Machinery Co., Ltd
Kao Hsuing Chang Iron & Steel Corp.
Yieh Phui Enterprise Co. Ltd
Chung Hung Steel Corporation (a.k.a. Chung Hung Steel Co., Ltd) A-570-849
THE PEOPLE'S REPUBLIC OF CHINA: Certain Cut-to-Length Carbon Steel Plate ³ A-570-849 | 11/1/09-10/31/10
Hunan Valin Xiangtan Iron & Steel Co., Ltd
THE PEOPLE'S REPUBLIC OF CHINA: Certain Hot-Rolled Carbon Steel Flat Products ⁴ A-570-865 | 11/1/09-10/31/10
Baosteel Group Corporation
Shanghai Baosteel International Economic & Trading Co., Ltd
Baoshan Iron and Steel Co., Ltd
THE PEOPLE'S REPUBLIC OF CHINA: Diamond Sawblades and Parts Thereof ⁵ A-570-900 | 1/23/09-10/31/10
Advanced Technology & Materials Co., Ltd
ASHINE Diamond Tools Co., Ltd
ATM International Trading Co., Ltd
Beijing Gang Yan Diamond Products Co.
Bosun Tools Group Co., Ltd
Bosun Tools Co., Ltd
Central Iron and Steel Research Institute Group
Chengdu Huifeng Diamond Tools Co., Ltd
Cliff International Ltd
Danyang Aurui Hardware Products Co., Ltd
Danyang Dida Diamond Tools Manufacturing Co., Ltd
Danyang Hantronic Import & Export Co., Ltd
Danyang Huachang Diamond Tools Manufacturing Co., Ltd
Danyang NYCL Tools Manufacturing Co., Ltd
Danyang Tsunda Diamond Tools Co., Ltd
Danyang Weiwang Tools Manufacturing Co., Ltd
Danyang Youhe Tool Manufacturer Co., Ltd
Electrolux Construction Products (Xiamen) Co. Ltd
Fujian Quanzhou Wanlong Stone Co., Ltd
Guilin Tebon Superhard Material Co., Ltd
Hangzhou Deer King Industrial & Trading Co., Ltd
Hebei Husqvarna-Jikai Diamond Tools Co., Ltd
Hebei Jikai Industrial Group Co., Ltd
Hebei XMF Tools (Group) Co., Ltd
Henan Huanghe Whirlwind Co., Ltd
Henan Huanghe Whirlwind International Co., Ltd
Hua Da Superabrasive Tools Technology Co., Ltd
Huachang Diamond Tools Manufacturing Co., Ltd
Huzhou Gu's Import & Export Co., Ltd
Jiangsu Fengtai Diamond Tool Manufacture Co., Ltd
Jiangsu Fengyu Tools Co., Ltd
Jiangyin Likn Industry Co., Ltd
Jiangsu Inter-China Group Corporation (previously operated as Zhenjiang Inter-China Import & Export Co., Ltd)
Jiangsu Youhe Tool Manufacturer Co., Ltd (previously operated as Danyang Youhe Manufacturer Co., Ltd)
Protech Diamond Tools
Pujiang Talent Diamond Tools Co., Ltd
Qingdao Shinhan Diamond Industrial Co., Ltd
Quanzhou Shuangyang Diamond Tools Co., Ltd
Quanzhou Zhongzhi Diamond Tool Co. Ltd
Rizhao Hein Saw Co., Ltd
Saint-Gobain Abrasives Inc
Saint-Gobain Abrasives (Shanghai) Co., Ltd
Shanghai Deda Industry & Trading Co., Ltd
Shanghai Robtol Tool Manufacturing Co., Ltd
Shijiazhuang Global New Century Tools Co., Ltd
Sichuan Huili Tools Co.
Task Tools & Abrasives
Weihai Xiangguang Mechanical Industrial Co., Ltd
Wuhan Wanbang Laser Diamond Tools Co.
Wuxi Lianhua Superhard Material Tools Co., Ltd
Xiamen ZL Diamond Tools Co., Ltd
Yichang HXF Circular Saw Industrial Co Ltd
Zhejiang Tea Import & Export Co., Ltd
Zhejiang Wanda Import and Export Co. dba Zhejiang Wanda Tools Group Corp.
Zhejiang Wanli Super-hard Materials Co., Ltd
Zhejiang Wanli Tools Group Co., Ltd aka Wanli Tools Group
Zhenjiang Inter-China Import & Export Co., Ltd
THE PEOPLE'S REPUBLIC OF CHINA: Fresh Garlic ⁶ A-570-831 | 11/1/09-10/31/10
APM Global Logistics (Shanghai) Co., Ltd
American Pioneer Shipping
Anhui Dongqian Foods Ltd
Anqiu Friend Food Co., Ltd
Anqiu Haoshun Trade Co., Ltd
APS Qingdao
Chengwu County Yuanxiang Industry & Commerce Co., Ltd
Chiping Shengkang Foodstuff Co., Ltd
CMEC Engineering Machinery Import & Export Co., Ltd
Dongying Shunyifa Chemical Co., Ltd
Dynalink Systems Logistics (Qingdao) Inc
Feicheng Acid Chemicals Co., Ltd
Frog World Co., Ltd
Golden Bridge International, Inc
Hangzhou Guanyu Foods Co., Ltd
Hebei Golden Bird Trading Co., Ltd
Henan Weite Industrial Co., Ltd
Heze Ever-Best International Trade Co., Ltd (f/k/a Shandong Heze International Trade and Developing Company)
Hongqiao International Logistics Co.
Intecs Logistics Service Co., Ltd
IT Logistics Qingdao Branch
Jinan Solar Summit International Co., Ltd
Jinan Farmlady Trading Co., Ltd
Jinan Yipin Corporation Ltd
Jining Highton Trading Co., Ltd
Jining Jiulong International Trading Co., Ltd
Jining Tiankuang Trade Co., Ltd
Jining Trans-High Trading Co., Ltd
Jining Yifa Garlic Produce Co., Ltd
Jining Yongjia Trade Co., Ltd
Jinxiang Chengda Import & Export Co., Ltd
Jinxiang County Huaguang Food Import & Export Co., Ltd
Jinxiang Dacheng Food Co., Ltd
Jinxiang Dongyun Freezing Storage Co., Ltd (a/k/a Jinxiang Eastward Shipping Import and Export Limited Company and Jinxiang Dongyun Import & Export Co.)
Jinxiang Fengsheng Import & Export Co., Ltd
Jinxiang Hejia Co., Ltd
Jinxiang Jinma Fruits Vegetables Products Co., Ltd
Jinxiang Meihua Garlic Produce Co., Ltd
Jinxiang Shanyang Freezing Storage Co., Ltd
Jinxiang Tianheng Trade Co., Ltd
Jinxiang Tianma Freezing Storage Co., Ltd
Jinxiang Yuanxin Import & Export Co., Ltd
Juye Homestead Fruits and Vegetables Co., Ltd
Kingwin Industrial Co., Ltd
Laiwu Fukai Foodstuff Co., Ltd
Laizhou Xubin Fruits and Vegetables
Linshu Dading Private Agricultural Products Co., Ltd
Linyi City Heding District Jiuli Foodstuff Co.
Linyi City Kangfa Foodstuff Drinkable Co., Ltd
Linyi Tianqin Foodstuff Co., Ltd
Ningjin Ruifeng Foodstuff Co., Ltd
Qingdao Apex Shipping Co., Ltd
Qingdao BNP Co., Ltd
Qingdao Cherry Leather Garment Co., Ltd
Qingdao Chongzhi International Transportation Co., Ltd
Qingdao Lianghe International Trade Co., Ltd
Qingdao Saturn International Trade Co., Ltd
Qingdao Sea-Line International Trading Co., Ltd
Qingdao Sino-World International Trading Co., Ltd
Qingdao Tiantaixing Foods Co., Ltd
Qingdao Winner Foods Co., Ltd
Qingdao Xintianfeng Foods, Co., Ltd
Qingdao Yuankang International
Qufu Dongbao Import & Export Trade Co., Ltd
Rizhao Huasai Foodstuff Co., Ltd
Samyoung America (Shanghai) Inc
Shandong Chengshun Farm Produce Trading Co., Ltd
Shandong Chenhe Int'l Trading Co., Ltd
Shandong CHINA Bridge Imports
Shandong Dongsheng Eastsun Foods Co., Ltd
Shandong Garlic Company
Shandong Jinxiang Zhengyang Import & Export Co., Ltd
Shandong Longtai Fruits and Vegetables Co., Ltd
Shandong Sanxing Food Co., Ltd
Shandong Wonderland Organic Food Co., Ltd
Shandong Xingda Foodstuffs Group Co., Ltd
Shandong Yipin Agro (Group) Co., Ltd
Shanghai Ever Rich Trade Company
Shanghai Goldenbridge International Co., Ltd
Shanghai Great Harvest International Co., Ltd
Shanghai LJ International Trading Co., Ltd
Shanghai Yijia International Transportation Co., Ltd
Shenzhen Bainong Co., Ltd
Shenzhen Fanhui Import & Export Co., Ltd
Shenzhen Greening Trading Co., Ltd
Shenzhen Xinboda Industrial Co., Ltd
Sunny Import & Export Limited
T&S International, LLC
Taian Eastsun Foods Co., Ltd
Taian Fook Huat Tong Kee Pte. Ltd
Taian Solar Summit Food Co., Ltd
Tianjin Spiceshi Co., Ltd
Taiyan Ziyang Food Co., Ltd
U.S. United Logistics (Ningbo) Inv.
V.T. Impex (Shandong) Limited
Weifang Chenglong Import & Export Co., Ltd
Weifang Hongqiao International Logistics Co., Ltd
Weifang Jinbao Agricultural Equipment Co., Ltd
Weifang Naike Foodstuffs Co., Ltd
Weifang Shennong Foodstuff Co., Ltd
Weihai Textile Group Import & Export Co., Ltd
WSSF Corporation (Weifang)
Xiamen Huamin Import Export Company
Xiamen Keep Top Imp. and Exp. Co., Ltd
Xinjiang Top Agricultural Products Co., Ltd
XuZhou Simple Garlic Industry Co., Ltd
Yantai Jinyan Trading Co., Ltd
You Shi Li International Trading Co., Ltd
Zhangzhou Xiangcheng Rainbow Greenland Food Co., Ltd
Zhengzhou Dadi Garlic Industry Co., Ltd
Zhengzhou Harmoni Spice Co., Ltd
Zhengzhou Huachao Industrial Co., Ltd
Zhengzhou Yuanli Trading Co., Ltd
THE PEOPLE'S REPUBLIC OF CHINA: Polyethylene Terephthalate (Pet) Film ⁷ A-570-924 | 11/1/09-10/31/10
Fuwei Films (Shandong) Co., Ltd
Shaoxing Xiangyu Green Packing Co., Ltd
Tianjin Wanhua Co., Ltd
Sichuan Dongfang Insulating Material Co., Ltd
Shanghai Xishu Electric Material Co., Ltd
Shanghai Uchem Co., Ltd
THE PEOPLE'S REPUBLIC OF CHINA: Pure Magnesium in Granular Form ⁸ A-570-864 | 11/1/09-10/31/10
China Minmetals Non-ferrous Metals Co., Ltd
UNITED ARAB EMIRATES: Polyethylene Terephthalate (Pet) Film A-520-803 JBF RAK LLC | 11/1/09-10/31/10
³ If the above-named company does not qualify for a separate rate, all other exporters of certain cut-to-length carbon steel plate from the People's Republic of China (“PRC”) who have not qualified for a separate rate are deemed to be covered by this review as part of the single PRC entity of which the named exporters are a part.
⁴ If one of the above-named companies does not qualify for a separate rate, all other exporters of certain hot-rolled carbon steel flat products from the PRC who have not qualified for a separate rate are deemed to be covered by this review as part of the single PRC entity of which the named exporters are a part.
⁵ If one of the above-named companies does not qualify for a separate rate, all other exporters of diamond sawblades and parts thereof from the PRC who have not qualified for a separate rate are deemed to be covered by this review as part of the single PRC entity of which the named exporters are a part.
⁶ If one of the above-named companies does not qualify for a separate rate, all other exporters of fresh garlic from the PRC who have not qualified for a separate rate are deemed to be covered by this review as part of the single PRC entity of which the named exporters are a part.
⁷ If one of the above-named companies does not qualify for a separate rate, all other exporters of polyethylene terephthalate film, sheet, and strip from the PRC who have not qualified for a separate rate are deemed to be covered by this review as part of the single PRC entity of which the named exporters are a part.
⁸ If the above-named company does not qualify for a separate rate, all other exporters of pure magnesium in granular form from the PRC who have not qualified for a separate rate are deemed to be covered by this review as part of the single PRC entity of which the named exporters are a part.

Countervailing Duty Proceedings

None.

Suspension Agreements

None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under APO in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed in 19 CFR 351.101(d)).

These initiations and this notice are in accordance with section 751(a) of the Tariff Act of 1930, as amended (19 U.S.C. 1675(a)), and 19 CFR 351.221(c)(1)(i).

Dated: December 21, 2010.
Christian Marsh,
Deputy Assistant Secretary for Antidumping and Countervailing Duty Operations.

[FR Doc. 2010-32683 Filed 12-27-10; 8:45 am]

BILLING CODE 3510-DS-P